DEPARTMENT OF THE INTERIOR

Bureau of Land Management

[AZ-068-03-1610-DR-241E]

Notice of Availability of Approved Resource Management Plan/Record of Decision

AGENCY: Bureau of Land Management, Interior.

ACTION: Notice of availability.

SUMMARY: Notice is hereby given that the Bureau of Land Management (BLM) has prepared an Approved Resource Management Plan/Record of Decision (RMP/ROD) for the Las Cienegas National Conservation Area (NCA) and Sonoita Valley Acquisition Planning District (SVAPD) located in Pima and Santa Cruz Counties, Arizona. The RMP/ROD will be signed by the Arizona State Director and become effective upon publication of this notice.

The RMP/ROD has been prepared pursuant to the National Environmental Policy Act (NEPA), the Federal Land Policy and Management Act (FLPMA), the act establishing the Las Cienegas National Conservation Area (H.R. 2941), and BLM management policies.

The RMP/ROD was developed with broad public participation through a six-year collaborative planning process. The RMP/ROD addresses management on approximately 49,000 acres of public land within the NCA and SVAPD. The RMP/ROD is designed to achieve or maintain desired future conditions developed through the Sonoita Valley Planning Partnership process. The RMP/ROD also includes a series of management actions to meet the desired resource conditions for upland and riparian vegetation, wildlife habitats, and cultural and visual resources as well as livestock grazing and recreation.

ADDRESSES: Copies of the RMP/ROD are available upon request from the Field Manager, Tucson Field Office, Bureau of Land Management, 12661 East Broadway Boulevard, Tucson, Arizona 85748-7208 or via the Internet at www.az.blm.gov.

FOR FURTHER INFORMATION CONTACT: Karen Simms, Ecosystem Planner, Tucson Field Office, Bureau of Land Management, 12661 East Broadway Boulevard, Tucson, Arizona 85748-7208; telephone number (520) 258-7210.

SUPPLEMENTARY INFORMATION: The approved Resource Management Plan is essentially the same as Alternative 2 in the Proposed Las Cienegas RMP/Final Environmental Impact Statement (PRMP/FEIS) that was published in June 2002. BLM received only one protest to the PRMP/FEIS. No inconsistencies with State or local plans, policies, or programs were identified during the Governor consistency review of the PRMP/FEIS. As a result, only minor editorial modifications were made in preparing the RMP/ROD. These modifications corrected errors that were noted during review of Alternative 2 of the PRMP/FEIS and provide further clarification for some of the decisions. An errata sheet is included with the RMP/ROD that identifies the location of the corrections in the PRMP/FEIS.

Elaine Y. Zielinski,
State Director.

[FR Doc. 03-21073 Filed 8-14-03; 8:45 am]

BILLING CODE 4810-32-P